DEPARTMENT OF DEFENSE

Office of the Secretary

[Transmittal No. 24-83]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6523, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-83, Policy Justification, and Sensitivity of Technology.

Dated: November 18, 2025.
Stephanie J. Bost,
Alternate OSD Federal Register Liaison Officer, Department of Defense.

BILLING CODE 6001-FR-P

BILLING CODE 6001-FR-C

Transmittal No. 24-83

Notice of Proposed Issuance of Letter of Offer Pursuant to Section 36(b)(1) of the Arms Export Control Act, as amended

(i) Prospective Purchaser: Government of Singapore

(ii) Total Estimated Value:

Major Defense Equipment * | $110 million
Other | $ 23 million
TOTAL | $133 million

Funding Source: National Funds

(iii) Description and Quantity or Quantities of Articles or Services under Consideration for Purchase:

Major Defense Equipment (MDE):

Fifty-four (54) AIM-120 C8 Advanced Medium Range Air-to-Air-Missiles (AMRAAM)

Two (2) AIM-120C-8 AMRAAM guidance sections

Non-Major Defense Equipment:

The following non-MDE items will also be included: AMRAAM control section spares, missile containers, and support equipment; Common Munitions Built-In-Test (BIT)/Reprogramming Equipment (CMBRE); ADU-89/E Adapter Group Computer Test Set; spare parts, consumables and accessories, and repair and return support; weapon system support and software, and classified software delivery and support; classified and unclassified publications and technical documentation; training support and equipment; studies and surveys; U.S. Government and contractor engineering, technical, and logistics support services; and other related elements of logistics and program support.

(iv) Military Department: Air Force (SN-D-YAK)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: September 9, 2024

* as defined in Section 47(6) of the Arms Export Control Act.

POLICY JUSTIFICATION

Singapore—AIM-120C-8 Advanced Medium Range Air-to-Air Missiles

The Government of Singapore has requested to buy fifty-four (54) AIM-120C-8 Advanced Medium Range Air-to-Air Missiles (AMRAAM) and two (2) AIM-120C-8 AMRAAM guidance sections. The following non-MDE items will also be included: AMRAAM control section spares, missile containers, and support equipment; Common Munitions Built-In-Test (BIT)/Reprogramming Equipment (CMBRE); ADU-89/E Adapter Group Computer Test Set; spare parts, consumables and accessories, and repair and return support; weapon system support and software, and classified software delivery and support; classified and unclassified publications and technical documentation; training support and equipment; studies and surveys; United States (U.S.) Government and contractor engineering, technical, and logistics support services; and other related elements of logistics and program support. The estimated total cost is $133 million.

This proposed sale will support the foreign policy and national security objectives of the U.S. by improving the security of a strategic partner that is an important force for political stability and economic progress in Asia.

The proposed sale will meet Singapore's need to maintain operational readiness and interoperability with U.S. and coalition forces. This sale increases Singapore's effectiveness in both training and combat operations and contributes to stability and deterrence in the Indo-Pacific region. Singapore will have no difficulty absorbing these weapons into its armed forces.

The proposed sale of this equipment and support will not alter the basic military balance in the region.

The principal contractor will be RTX Corporation, located in Tucson, AZ. There are no known offset agreements proposed in connection with this potential sale.

Implementation of this proposed sale will not require the assignment of any additional U.S. Government or contractor representatives to Singapore.

There will be no adverse impact on U.S. defense readiness as a result of this proposed sale.

Transmittal No. 24-83

Notice of Proposed Issuance of Letter of Offer Pursuant to Section 36(b)(1) of the Arms Export Control Act

Annex

Item No. vii

(vii) Sensitivity of Technology:

1. The AIM-120C-8 Advanced Medium Range Air-to-Air Missile (AMRAAM) is a supersonic, air launched, aerial intercept, guided missile featuring digital technology and micro-miniature, solid-state electronics. AMRAAM capabilities include look-down/shoot-down, multiple launches against multiple targets, resistance to electronic countermeasures, and interception of high- and low-flying and maneuvering targets.

2. The Common Munitions Built-In-Test (BIT)/Reprogramming Equipment (CMBRE) is support equipment used to interface with weapon systems to initiate and report BIT results, and upload/download flight software. CMBRE supports multiple munitions platforms with a range of applications that perform preflight checks, periodic maintenance checks, loading of Operational Flight Program (OFP) data, loading of munitions mission planning data, loading of Global Positioning System (GPS) cryptographic keys, and declassification of munitions memory.

3. The ADU-891 Adapter Group Test Set provides the physical and electrical interface between the CMBRE and missile.

4. The highest level of classification of defense articles, components, and services included in this potential sale is SECRET.

5. If a technologically advanced adversary were to obtain knowledge of the specific hardware and software elements, the information could be used to develop countermeasures that might reduce weapon system effectiveness or be used in the development of a system with similar or advanced capabilities.

6. A determination has been made that the Government of Singapore can provide substantially the same degree of protection for the sensitive technology being released as the U.S. Government. This sale is necessary in furtherance of the U.S. foreign policy and national security objectives outlined in the Policy Justification.

7. All defense articles and services listed in this transmittal have been authorized for release and export to the Government of Singapore.

[FR Doc. 2025-20511 Filed 11-20-25; 8:45 am]

BILLING CODE 6001-FR-P